DEPARTMENT OF THE TREASURY

Office of Thrift Supervision

Agency Information Collection Activities; Proposed Revision—Comment Request

AGENCY: Office of Thrift Supervision (OTS), Treasury.

ACTION: Notice and request for comment.

SUMMARY: The Department of the Treasury, as part of its continuing effort to reduce paperwork and respondent burden, invites the general public and other Federal agencies to comment on proposed and continuing information collections, as required by the Paperwork Reduction Act of 1995, 44 U.S.C. 3507. The Office of Thrift Supervision within the Department of the Treasury will submit the proposed information collection requirement described below to the Office of Management and Budget (OMB) for review, as required by the Paperwork Reduction Act. Today, OTS is soliciting public comments on the revision of a survey of federal savings associations about their experience with OTS.

DATES: Submit written comments on or before June 11, 2002.

ADDRESSES: Send comments, referring to the collection by title of the proposal or by OMB approval number, to Information Collection Comments, Chief Counsel's Office, Office of Thrift Supervision, 1700 G Street, NW., Washington, DC 20552, FAX Number (202) 906-6518, or e-mail to infocollection.comments@ots.treas.gov. OTS will post any comments and the related index on the OTS Internet Site at www.ots.treas.gov. In addition, interested persons may inspect comments at the Public Reference Room, 1700 G Street, NW., by appointment. To make an appointment, call (202) 906-5922, send an e-mail to publicinfo@ots.treas,gov, or send a facsimile transmission to (202) 906-7755.

FOR FURTHER INFORMATION CONTACT: You can request additional information about this proposed information collection from Lee Lassiter, Ombudsman, (202) 906-5685, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Comments should address one or more of the following points:

a. Whether the proposed collection of information is necessary for the proper performance of the functions of OTS;

b. The accuracy of OTS's estimate of the burden of the proposed information collection;

c. Ways to enhance the quality, utility, and clarity of the information to be collected;

d. Ways to minimize the burden of the information collection on respondents, including through the use of information technology.

We will summarize the comments that we receive and include them in the OTS request for OMB approval. All comments will become a matter of public record. In this notice, OTS is soliciting comments concerning the following information collection.

Title of Proposal: Annual Thrift Satisfaction Survey.

OMB Number: 1550-0087.

Form Number: None.

Regulation requirement: N/A.

Description: This survey will replace the survey that is now conducted of federal savings associations (thrifts) following OTS examinations, which is approved by OMB under the title “Measurement Survey—Exam Process.” The responses sought in this new survey are needed to help OTS evaluate the effectiveness of the services it provides to thrifts. The new survey will differ from the existing survey in several ways:

(1) It will seek information on overall agency performance, rather than only on issues concerning an examination by OTS.

(2) It will be anonymous —returned to OTS in a franked envelope to avoid identifying the postal zone from which it comes.

(3) It will be sent to all thrifts annually, rather than after an examination (which could be more frequently than annually or as infrequently as once every 18 months).

(4) It will reduce respondent burden by being much shorter than the existing survey.

Type of Review: Revision.

Affected Public: Federal Savings Associations.

Estimated Number of Respondents: 300.

Estimated Frequency of Response: Annually.

Estimated Burden Hours per Response: .25 hours.

Estimated Total Burden: 75 hours.

Clearance Officer: Sally W. Watts, (202) 906-7380, Office of Thrift Supervision, 1700 G Street, NW., Washington, DC 20552.

Dated: April 8, 2002.
Deborah Dakin,
Deputy Chief Counsel, Regulations & Legislation.

[FR Doc. 02-8851 Filed 4-11-02; 8:45 am]

BILLING CODE 6720-01-P